DEPARTMENT OF HOMELAND SECURITY

Office of the Secretary

[Docket No. DHS-2011-0017]

Privacy Act of 1974; Department of Homeland Security Federal Emergency Management Agency—011 Training and Exercise Program Records System of Records

AGENCY: Privacy Office, DHS.

ACTION: Notice of Privacy Act system of records.

SUMMARY: In accordance with the Privacy Act of 1974, the Department of Homeland Security proposes to establish a new Department of Homeland Security system of records titled, “Department of Homeland Security Federal Emergency Management Agency—011 Training and Exercise Program Records System of Records.” This system of records will allow the Department of Homeland Security/Federal Emergency Management Agency to collect and maintain records on its training and exercise programs. This system of records will include the personally identifiable information of current and former Federal Emergency Management Agency employees and contractors, current and former members of the first responder and emergency management communities, and others who have applied or registered to participate in or who have assisted with Federal Emergency Management Agency's training and exercise programs. The Department of Homeland Security is issuing a Notice of Proposed Rulemaking, to exempt this system of records from certain provisions of the Privacy Act, elsewhere in the Federal Register. In addition, in accordance with the Privacy Act of 1974 the Department of Homeland Security is giving notice that it proposes to consolidate the Privacy Act system of records notice titled, Department of Homeland Security/Federal Emergency Management Agency/National Emergency Training Center—017 Student Application and Registration Records system of records (October 5, 2004, 69 FR 192) into this system of records. This newly established system will be included in the Department of Homeland Security's inventory of record systems.

DATES: Submit comments on or before May 6, 2011. This new system will be effective May 6, 2011.

ADDRESSES: You may submit comments, identified by docket number DHS-2011-0017 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Thomas R. McQuillan (202-646-3323), Privacy Officer, Federal Emergency Management Agency, Department of Homeland Security, Washington, DC 20478. For privacy issues please contact: Mary Ellen Callahan (703-235-0780), Chief Privacy Officer, Privacy Office, Department of Homeland Security, Washington, DC 20528.

SUPPLEMENTARY INFORMATION:

I. Background

In accordance with the Privacy Act of 1974, 5 U.S.C. 552a, the Department of Homeland Security (DHS) Federal Emergency Management Agency (FEMA) proposes to establish a new DHS system of records titled, “DHS/FEMA-011 Training and Exercise Program Records System of Records.”

In support of its mission, components within FEMA such as the Protection and National Preparedness Bureau, the National Processing Service Centers (NPSCs), the United States Fire Administration (USFA), and the FEMA Emergency Management Institute (FEMA/EMI) sponsor a wide range of training and exercise programs for FEMA's employees and contractors and its partners in the first responder and emergency management communities.

Through its training and exercise programs, FEMA brings together partners from state, local, tribal, regional, international, and nongovernmental/volunteer organizations, as well as the private sector, including firefighters, emergency medical services, emergency management agencies, law enforcement, and public officials. These programs provide FEMA's employees, contractors and partners with the opportunity to develop the situational awareness and skills necessary to quickly prevent, respond to, or mitigate all hazards affecting the people of the United States.

This system of records notice is being published because FEMA collects and maintains personally identifiable information (PII) about the individuals who register or apply for its training and exercise programs and the organization employing or sponsoring these individuals, as well as information used to grant access to IT systems that support these programs. FEMA's training and exercise programs also maintain information about the trainings and exercise events, such as rosters and reports, which may be shared among participants. The type and amount of PII FEMA collects from individuals to facilitate their participation may vary among programs.

The purpose of this system is to facilitate registration for, participation in, and the completion and documentation of, training and exercise programs sponsored by FEMA in support of its mission.

FEMA collects, uses, and maintains the records within this system under the authority of the Robert T. Stafford Disaster Relief and Emergency Assistance Act; the Federal Fire Prevention and Control Act of 1974, as amended; 44 U.S.C. 3101; 6 U.S.C. 748; Homeland Security Presidential Directives, and several Executive Orders, as described in this notice. This updated system of records strengthens privacy protections and provides greater transparency regarding FEMA's training and exercise records by encompassing the full range of the agency's training and exercise programs into a single system of records. To further safeguard individuals' privacy, FEMA limits access to the information in this system by verifying the status and “need to know” of individuals registering for and participating in the agency's training and exercise programs.

The proposed routine uses are compatible with the purpose of the original collection as they ensure that the information within this system is shared in association with individuals' registration and participation in FEMA's training and exercise programs, and otherwise ensure that the sharing of information in this system is consistent with that of other DHS systems.

FEMA collects, uses, and maintains information about the individuals who register or apply for its training and exercise programs, including DHS employees and contractors, other Federal employees, volunteers and members of the first responder and emergency management communities, to foster the development of mission critical skills among them through participation in these training and exercise programs. FEMA's training and exercise programs may share information with state, local, tribal, international, nongovernmental/volunteer organizations, and private sector organizations. FEMA shares this information to facilitate the development of training and exercise programs, coordinate, facilitate, and track participation in training and exercise programs, and for statistical purposes. FEMA's sharing of information with education institutions for transcript purposes will only take place upon the request of the student. In accordance with the Privacy Act of 1974 the Department of Homeland Security is giving notice that it proposes to consolidate the Privacy Act system of records notice titled, Department of Homeland Security/Federal Emergency Management Agency/National Emergency Training Center—017 Student Application and Registration Records system of records (October 5, 2004, 69 FR 192) into the this system of records.

Additionally, DHS is issuing a Notice of Proposed Rulemaking elsewhere in the Federal Register to exempt this system of records from certain provisions of the Privacy Act in order to preserve the objectivity and fairness of testing and examination material, elsewhere in the Federal Register. This newly established system will be included in DHS's inventory of record systems.

II. Privacy Act

The Privacy Act embodies fair information practice principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/FEMA-011 Training and Exercise Program Records System of Records.

In accordance with 5 U.S.C. 552a(r), DHS has provided a report of this system of records to the Office of Management and Budget and to Congress.

SYSTEM OF RECORDS

DHS/FEMA-011

System name:

DHS/FEMA-011 Training and Exercise Program Records.

Security classification:

Sensitive But Unclassified.

System location:

Records are maintained at the FEMA Headquarters in Washington, DC and field offices.

Categories of individuals covered by the system:

Any individual who has applied for, participated in, or assisted with a training or exercise program recommended, sponsored, or operated by FEMA including current and former employees of DHS, any other federal employee, volunteers and contractors, and private individuals such as state, local, tribal, international, and non-profit/nongovernmental personnel; and other participants in FEMA training and exercise programs such as instructors, developers, observers, and interpreters.

Categories of records in the system:

• Individual's name (First, Middle, Last, Suffix);

• Date of birth;

• Social Security Number;

• Alternate unique number assigned in lieu of an SSN;

• Sex;

• Race and ethnicity;

• U.S. Citizenship;

• City and country of birth (collected for non-U.S. citizens);

• Information related to disabilities requiring special assistance;

• Phone numbers;

• Email addresses;

• Addresses;

• Military Rank/Prefix;

• Unique user ID (for IT system registration);

• Individual's password (for IT system access; only accessible by the individual; disclosed as part of the authentication process);

• Individual's security questions and answers (for IT system access);

• Individual's employer or organization being represented;

• Individual's employment status;

• Individual's position title;

• Individual's professional certifications;

• Category of position;

• Years of experience;

• Type of experience;

• Primary responsibility;

• Reason for applying/registering for training/exercise;

• Reference point of contact name;

• Reference point of contact phone number;

• Reference point of contact addresses;

• Relationship of individual to the reference point of contact;

• Time Zone;

• Organization type/Jurisdiction (e.g. federal agency, state or local government, etc.);

• Organization identification number;

• Number of staff in the organization;

• Size of population served by the organization;

• Nomination forms;

• Registration/Application forms;

• Training/Exercise rosters and sign-in sheets;

• Training instructor and Exercise role lists;

• Training/exercise schedules, including location and venue, type, target capabilities, and mission;

• Financial information, such as bank routing and account number;

• Payment records, including financial, travel and related expenditures;

• Examination and testing materials;

• Grades and student evaluations;

• Course and instructor critiques; and

• Reports pertaining to and resulting from training and exercises.

Authority for maintenance of the system:

• Pub. L. 93-288, Robert T. Stafford Disaster Relief and Emergency Assistance Act as amended; Pub. L. 93-498, Federal Fire Prevention and Control Act of 1974, as amended; Pub. L. 93-579, 44 U.S.C. 3101-3106; 6 U.S.C. 748; Homeland Security Presidential Directive 8; Homeland Security Presidential Directive 5; the Homeland Security Act of 2002; the E-Government Act of 2002; the Reorganization Plan No.3 of 1978, 5 U.S.C. 301; 31 U.S.C. 3716, Administrative offset; 31 U.S.C. 321, General authority of the Secretary; Executive Order 13111; Executive Order 12148; Executive Order 12127; Executive Order 9397; Title VI of the Civil Rights Act of 1964; Section 504 of the Rehabilitation Act of 1973; Presidential Memorandum, “Electronic Government's Role in Implementing the President's Management Agenda,” July 10, 2002, 15 U.S.C. 2206, 44 U.S.C. 3101; 50 U.S.C. App. 2253 and 2281; CFO Bulletin, Financial and Acquisition Management Division, Number 117, June 23, 2003. Subject: Invitational Travel. Executive Order 9397 authorizes the collection of the social security number.

Purpose(s):

The purpose of this system is to facilitate registration for, participation in, and the completion and documentation of training and exercise programs sponsored by FEMA in support of its mission. Records in this system will be used to: determine eligibility for, and the effectiveness of, FEMA training and exercise programs; facilitate housing for and reimbursements to students of FEMA Training Programs/Conferences; promote a collaborative environment for participants in FEMA's training and exercise programs; and facilitate the compilation of statistical information about FEMA's training and exercise programs. FEMA uses the Social Security Number to ensure the accuracy of academic records, for stipend reimbursement of funds to registered students, and to distinguish the identity of individuals with identical names and birth dates.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including U.S. Attorney Offices, or other federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The U.S. or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration (NARA) or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To a federal, State, territorial, tribal, local, international, or foreign agency or entity for the purpose of consulting with that agency or entity (a) to assist in making a determination regarding access to or amendment of information, or (b) for the purpose of verifying the identity of an individual or the accuracy of information submitted by an individual who has requested access to or amendment of information.

I. To a Federal, State, local, tribal, territorial, foreign, or international agency, if necessary to obtain information relevant to a DHS decision concerning the hiring or retention of an employee, the issuance of a security clearance, the reporting of an investigation of an employee, the letting of a contract, or the issuance of a license, grant or other benefit.

J. To a Federal, State, local, tribal, territorial, foreign, or international agency, in response to its request, in connection with the hiring of a prospective employee or retention of an employee, the issuance of a security clearance, the reporting of an investigation of an employee, the letting of a contract, the issuance of a license, grant, or other benefit by the requesting agency, or for general inquiries by a state agency or state entity in connection with monitoring status and activities of its employees, to the extent that the information is relevant and necessary to the requesting agency's role and authority on such decisions and matters.

K. To a physician(s) in order to provide information from the application for students who become ill or are injured during courses and are unable to provide the information.

L. To members of the NFA and EMI Boards of Visitors Federal advisory committees for the purpose of evaluating NFA's and EMI's programmatic statistics.

M. To sponsoring States, local officials, or state agencies to update/evaluate statistics on participation in FEMA-sponsored educational programs.

N. To the Department of Treasury for the processing and issuance of stipend payments to reimburse training/exercise/conference related expenses.

O. To Federal, State, local and tribal educational institutions for the maintenance/updating of student academic records such as transcripts.

P. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by an individual's name, social security number, or unique user ID.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

FEMA's training and exercise records retention is generally covered under General Records Schedule (GRS) 1A-29a, 1-29a(2), and 1-29b; NARA Authority N1-311-08-2 1a, and NARA Authority N1-311-88-2 2. Under GRS 1, records are maintained for up to five years after the cutoff date and then destroyed. Under NARA Authority N1-311-08-2 1a, records are retired to the Federal Records Center (FRC) five years after the cutoff and destroyed after forty years. Under NARA Authority N1-311-88-2 2, records are maintained for six years and three months after the cutoff and then destroyed.

System Manager and address:

Privacy Officer, Federal Emergency Management Agency, Department of Homeland Security, Washington, DC 20478.

Notification procedure:

Individuals seeking notification of and access to any record contained in this system of records, or seeking to contest its content, may submit a request in writing to the FEMA FOIA Officer, whose contact information can be found at http://www.dhs.gov/foia under “contacts.” If an individual believes more than one component maintains Privacy Act records concerning him or her the individual may submit the request to the Chief Privacy Officer and Chief Freedom of Information Act Officer, Department of Homeland Security, 245 Murray Drive, SW., Building 410, STOP-0655, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

Record access procedures:

See “Notification Procedure” above.

Contesting record procedures:

See “Notification Procedure” above.

Record source categories:

Records are obtained from all individuals who have registered for, applied for, participated in, or assisted with FEMA's training or exercise programs including FEMA employees and contractors, volunteers, other Federal employees and other participants such as instructors, course developers, observers, and interpreters.

Exemptions claimed for the system:

The Secretary of Homeland Security has exempted this system from the following provisions of the Privacy Act, subject to the limitation set forth in 5 U.S.C. 552a(c)(3); (d); (e)(1), (e)(4)(G), (e)(4)(H), (e)(4)(I); and (f) pursuant to 5 U.S.C. 552a(k)(6).

Dated: March 3, 2011.
Mary Ellen Callahan,
Chief Privacy Officer, Department of Homeland Security.

[FR Doc. 2011-8089 Filed 4-5-11; 8:45 am]

BILLING CODE 9111-17-P